DEPARTMENT OF COMMERCE

National Oceanic and Atmospheric Administration

Notice of Availability of Draft Environmental Impact Statement (DEIS), Notice of Public Comment Period for the DEIS and Schedule of Public Hearings for the National Oceanic and Atmospheric Administration's Office of Ocean and Coastal Resource Management's Review of Amendments to the Washington Coastal Management Program

AGENCY: Department of Commerce (DOC), National Oceanic and Atmospheric Administration (NOAA), Office of Ocean and Coastal Resource Management (OCRM).

ACTION: Notice of Availability of DEIS, Notice of Public Comment Period for the DEIS and Schedule of Public Hearings.

SUMMARY: NOAA's Office of Ocean and Coastal Resource Management is issuing this notice to advise the public that a DEIS for OCRM's review of amendments to the Washington Coastal Management Program has been prepared and is available for public review and comment. Written requests for the DEIS and written comments on the DEIS can be submitted to the individual listed in the section FOR FURTHER INFORMATION CONTACT. Public Hearings will be held on April 10, 2008 and April 11, 2008. The public comment period commenced on February 29, 2008 as noticed in the Federal Register at http://frwebgate4.access.gpo.gov/cgi-bin/waisgate.cgi?WAISdocID=5668694961+0+0+0&WAISaction=retrieve and will close on April 14, 2008.

Public Comment Hearings: The start of the public comment period on the DEIS commenced February 29, 2008 and will close on April 14, 2008. Two public hearings will be held; one on April 10, 2008 and one on April 11, 2008 in Lacey, Washington and Seattle, Washington, respectively. The public hearing on April 10th will be held in Lacey, Washington at the Washington State Department of Ecology Headquarters, (300 Desmond Drive) and will begin at 3:30 p.m. and last until 6:30 p.m. The public hearing on April 11th will be held in Seattle Washington at the Mountaineers Building, Tahoma 2 Room (300 Third Avenue West) and will begin at 3:30 p.m. and last until 6:30 p.m.

DEIS Availability and Review

Copies of the DEIS are available either on CD or hard copy by contacting Helen Farr at the FOR FURTHER INFORMATION CONTACT section below. In addition, the DEIS has been posted on OCRM's Web site at http://coastalmanagement.noaa.gov/assessments/welcome.html and the Washington State Department of Ecology's Web site at http://www.ecy.wa.gov/programs/sea/czm.

Comments from interested parties on the DEIS are encouraged and may be presented orally at the public hearings. Written comments may be submitted to OCRM during the public hearings and at the address (including e-mail address) in the section entitled FOR FURTHER INFORMATION CONTACT.

OCRM encourages all interested parties to provide comments concerning the scope and content of the DEIS. Comments should be as specific as possible and address the analysis of potential alternatives. This commenting procedure is intended to ensure that substantive comments and concerns are made available to OCRM in a timely manner so that OCRM has an opportunity to address them.

SUPPLEMENTARY INFORMATION: The DEIS discloses the environmental consequences associated with OCRM's review of amendments to the State of Washington's federally-approved coastal management program (CMP). OCRM's approval of Washington's request to incorporate changes into the Washington CMP would allow the State to continue its certification as a federally-approved CMP, receive Coastal Zone Management Act (CZMA) funds to implement the revised program, and conduct State and federal consistency reviews based on the revised program policy. Incorporation of the revised Washington Shoreline Management Act Guidelines (SMA) will result in the following changes:

• Revise state guidelines requiring local governments located in the designated coastal zone to revise their Shoreline Master Programs to be consistent with the standards contained in the new Washington SMA;

• Achieve improved water quality, scenic beauty, safer development and a number of other new objectives consistent with the policies of the SMA;

• Make improvements to the existing shoreline environments as part of mitigation and restoration requirements;

• Give designated “critical” areas special attention where future development may result in negative impacts; and

• Ensure that activities that do not normally require a shoreline development permit still help achieve SMA policy goals.

The purpose and need for OCRM's review of the amendments is reviewed in the DEIS. All reasonable and prudent alternatives are being considered, including the no-action alternative.

FOR FURTHER INFORMATION CONTACT: Helen Farr, Environmental Protection Specialist, National Oceanic and Atmospheric Administration, OCRM/CPD, N/ORM3, Station 11209, 1305 East-West Highway, Silver Spring, MD 20910 or Helen.Farr@noaa.gov. Ms. Farr may be contacted during business hours at (301) 713-3155, extension 175 (telephone) and 301-713-4367 (fax).

The comments period will close on April 14, 2008.

Dated: March 4, 2008.
David M. Kennedy,
Director, Office of Ocean and Coastal Resource Management, National Ocean Service, National Oceanic and Atmospheric Administration, Federal Domestic Assistance Catalog 11.419 Coastal Zone, Management Program Administration.

[FR Doc. E8-4711 Filed 3-7-08; 8:45 am]

BILLING CODE 3510-08-P